DEPARTMENT OF HEALTH AND HUMAN SERVICES

Substance Abuse and Mental Health Services Administration

Center for Substance Abuse Treatment; Amendment of Meeting Notice

Pursuant to Public Law 92-463, notice is hereby given of a change in the date of the Center for Substance Abuse Treatment (CSAT) National Advisory Council meeting, which was scheduled to be held on September 20-21, 2006. Public notice was published in the Federal Register on September 6, 2006, Volume 71, Number 173, Page 52811, announcing that the CSAT National Advisory Council would be convening on September 20 and September 21, 2006, at 1 Choke Cherry Road, Sugar Loaf and Seneca Conference Rooms, Rockville, Maryland. This notice cancels the September 21 meeting date. The September 20 meeting will be held as previously announced in the Federal Register from 9 a.m.-5 p.m. For additional information, contact Cynthia Graham, M.S., Executive Secretary, SAMHSA/CSAT National Advisory Council, 1 Choke Cherry Road, Room 5-1036, Rockville, MD 20857, Telephone: (240) 276-1692, FAX: (240) 276-1690, and e-mail: cynthia.graham@samhsa.hhs.gov.

Dated: September 15, 2006.
Toian Vaughn,
Committee Management Officer, Substance Abuse and Mental Health Services Administration.

[FR Doc. 06-8048 Filed 9-20-06; 8:45 am]

BILLING CODE 4162-20-P